DEPARTMENT OF ENERGY

Federal Energy Regulatory Commission

Combined Notice of Filings #2

Take notice that the Commission received the following electric rate filings:

Docket Numbers: ER13-1508-005.

Applicants: Entergy Louisiana, LLC, Entergy New Orleans, LLC.

Description: Informational Compliance Filing of Amended Power Purchase Agreement [Pro Forma Sheets] of Entergy Louisiana, LLC, et. al.

Filed Date: 5/30/18.

Accession Number: 20180530-5301.

Comments Due: 5 p.m. ET 6/20/18.

Docket Numbers: ER18-136-003.

Applicants: Midcontinent Independent System Operator, Inc.

Description: Tariff Amendment: 2018-05-31_Filing to update eff date re MISO-PJM JOA congestion overlap revision to be effective 8/1/2018.

Filed Date: 5/31/18.

Accession Number: 20180531-5124.

Comments Due: 5 p.m. ET 6/21/18.

Docket Numbers: ER18-1458-000.

Applicants: Duke Energy Florida, LLC.

Description: Duke Energy Florida, LLC Motion for Leave to Answer and Answer.

Filed Date: 5/31/18.

Accession Number: 20180531-5253.

Comments Due: 5 p.m. ET 6/21/18.

Docket Numbers: ER18-1704-000.

Applicants: Stuttgart Solar, LLC.

Description: Baseline eTariff Filing: Rate Schedule Reactive Power Compensation to be effective 7/30/2018.

Filed Date: 5/31/18.

Accession Number: 20180531-5215.

Comments Due: 5 p.m. ET 6/21/18.

Docket Numbers: ER18-1705-000.

Applicants: Southern California Edison Company.

Description: § 205(d) Rate Filing: Amended SGIA, True-Up Lancaster Dry Farm Ranch B LLC SA No. 467 to be effective 7/31/2018.

Filed Date: 5/31/18.

Accession Number: 20180531-5244.

Comments Due: 5 p.m. ET 6/21/18.

Docket Numbers: ER18-1706-000.

Applicants: Consolidated Edison Company of New York, Inc.

Description: § 205(d) Rate Filing: DLM Filing May 2018 to be effective 6/1/2018.

Filed Date: 5/31/18.

Accession Number: 20180531-5262.

Comments Due: 5 p.m. ET 6/21/18.

Docket Numbers: ER18-1707-000.

Applicants: Arizona Public Service Company.

Description: § 205(d) Rate Filing: Gila River Service Agreement No. 174, Amendment 9 to be effective 5/2/2018.

Filed Date: 5/31/18.

Accession Number: 20180531-5286.

Comments Due: 5 p.m. ET 6/21/18.

Docket Numbers: ER18-1708-000.

Applicants: Copenhagen Wind Farm, LLC.

Description: Baseline eTariff Filing: Copenhagen Wind Farm Initial Market-Based Rate Application Filing to be effective 7/31/2018.

Filed Date: 5/31/18.

Accession Number: 20180531-5302.

Comments Due: 5 p.m. ET 6/21/18.

Docket Numbers: ER18-1709-000.

Applicants: Stoneray Power Partners, LLC.

Description: Baseline eTariff Filing: Stoneray Power Partners Initial Market-Based Rate Application Filing to be effective 7/31/2018.

Filed Date: 5/31/18.

Accession Number: 20180531-5314.

Comments Due: 5 p.m. ET 6/21/18.

Docket Numbers: ER18-1710-000.

Applicants: Midcontinent Independent System Operator, Inc.

Description: § 205(d) Rate Filing: 2018-05-31_Tariff revision to update Schedule 27 to be effective 6/1/2018.

Filed Date: 5/31/18.

Accession Number: 20180531-5343.

Comments Due: 5 p.m. ET 6/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2018.
Nathaniel J. Davis, Sr.,
Deputy Secretary.

[FR Doc. 2018-12108 Filed 6-5-18; 8:45 am]

BILLING CODE 6717-01-P